NATIONAL AERONAUTICS AND SPACE ADMINISTRATION

[Notice (06-057)]

NASA Advisory Council; Science Committee; Earth Science Subcommittee; Meeting

AGENCY: National Aeronautics and Space Administration.

ACTION: Notice of meeting.

SUMMARY: The National Aeronautics and Space Administration (NASA) announces a meeting of the Earth Science Subcommittee of the NASA Advisory Council (NAC). This Subcommittee reports to the Science Committee of the NAC. The Meeting will be held for the purpose of soliciting from the scientific community and other persons scientific and technical information relevant to program planning.

DATES: Wednesday, September 27, 2006, 8:30 a.m. to 5:30 p.m., and Thursday, September 28, 8:30 a.m. to 5:30 p.m. Eastern Daylight Time.

ADDRESSES: Inn and Conference Center, University of Maryland, 3501 University Boulevard East, Adelphi, Maryland 20783.

FOR FURTHER INFORMATION CONTACT: Ms. Marian Norris, Science Mission Directorate, NASA Headquarters, Washington, DC 20546, (202) 358-4452, fax (202) 358-4118, or mnorris@nasa.gov.

SUPPLEMENTARY INFORMATION: The agenda for the meeting includes the following topics:

—Input to NASA Science Plan

—Response and Comments on ESMD Lunar Science Themes and Objectives

—Planning for Spring 2007 Lunar Science Workshop

—Earth Science Division Overview and Program Status

The meeting will be open to the public up to the seating capacity of the rooms. Findings and recommendations developed by the Subcommittee during its meeting will be submitted to the Science Committee of the NAC.

It is imperative that the meeting be held on these dates to accommodate the scheduling priorities of the key participants. Attendees will be requested to sign a visitor's register.

Michael F. O'Brien,
Assistant Administrator, Office of External Relations, National Aeronautics and Space Administration.

[FR Doc. E6-13791 Filed 8-21-06; 8:45 am]

BILLING CODE 7510-13-P